DEPARTMENT OF COMMERCE

International Trade Administration

[A-570-028]

Antidumping Duty Order on Hydrofluorocarbon Blends From the People's Republic of China: Preliminary Negative Determination of Circumvention With Respect to R-410B From Mexico

AGENCY: Enforcement and Compliance, International Trade Administration, Department of Commerce.

SUMMARY: The U.S. Department of Commerce (Commerce) preliminarily determines that imports of R-410B from Mexico, which are allegedly completed in Mexico using components originating in the People's Republic of China (China), and further processed in the United States, as specified below, are not circumventing the antidumping duty (AD) order on hydrofluorocarbon (HFC) blends from China.

DATES: Applicable July 2, 2024.

FOR FURTHER INFORMATION CONTACT: Melissa Porpotage, AD/CVD Operations, Office IX, Enforcement and Compliance, International Trade Administration, U.S. Department of Commerce, 1401 Constitution Avenue NW, Washington, DC 20230; telephone: (202) 482-1413.

SUPPLEMENTARY INFORMATION:

Background

On August 19, 2016, Commerce published the Order in the Federal Register.¹ On October 30, 2023, Commerce initiated a country-wide circumvention inquiry to determine whether imports of R-410B from Mexico, completed in Mexico using HFC components R-32 (difluoromethane) and R-125 (pentafluoroethane) (collectively, China-origin HFC components) manufactured in China, and further processed in the United States are circumventing the Order and, accordingly, should be covered by the scope of the Order.² In December 2023, Commerce selected the following two mandatory respondents in this circumvention inquiry: iGas LLC (iGas) and Quimica Marcat, S.A. DE C.V. (Quimica Marcat).³ For a complete description of the events that followed the initiation of this circumvention inquiry, see the Preliminary Decision Memorandum.⁴

¹ See Hydrofluorocarbon Blends from the People's Republic of China: Antidumping Duty Order, 81 FR 55436 (August 19, 2016) (Order).

² See Hydrofluorocarbon Blends from the People's Republic of China: Initiation of Circumvention Inquiry on the Antidumping Duty Order, 88 FR 74150 (October 30, 2023).

³ See Memorandum, “Respondent Selection,” dated December 19, 2023; see also Commerce's Letter, “R-410B from Mexico Initial Questionnaire,” dated December 27, 2023.

⁴ See Memorandum, “Antidumping Duty Order on Hydrofluorocarbon Blends from the People's Republic of China: Preliminary Decision Memorandum for the Circumvention Inquiry with Respect to R-410B from Mexico,” dated concurrently with, and hereby adopted by, this notice (Preliminary Decision Memorandum).

Scope of the Order

The merchandise covered by the Order is certain HFC blends from China. For a complete description of the scope of the Order, see the Preliminary Decision Memorandum.⁵

⁵ Id. at 1-3.

Merchandise Subject to the Circumvention Inquiry

This circumvention inquiry covers imports of R-410B from Mexico, which are completed in Mexico using China-origin HFC components and further processed in the United States (inquiry merchandise).

Methodology

Commerce is conducting this circumvention inquiry in accordance with section 781(a) of the Tariff Act of 1930, as amended (the Act), and 19 CFR 351.226. For a complete description of the methodology underlying this circumvention inquiry, see the Preliminary Decision Memorandum. A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Circumvention Determination

As detailed in the Preliminary Decision Memorandum, Commerce preliminarily determines that R-410B from Mexico, allegedly completed in Mexico using HFC components from China, that is further processed in the United States, is not circumventing the Order. As a result, in accordance with section 781(a) of the Act, we preliminarily determine that the inquiry merchandise should not be included within the scope of the Order.

Verification

As provided in 19 CFR 351.307, Commerce may verify information relied upon in making its final determination.

Public Comment

Case briefs or other written comments should be submitted to the Assistant Secretary for Enforcement and Compliance no later than seven days after the date on which any verification report is issued. Rebuttal briefs, limited to issues raised in the case briefs, may be filed no later than five days after the date for filing case briefs.⁶ Interested parties who submit case briefs or rebuttal briefs in these proceedings must submit: (1) a statement of the issue; and (2) a table of authorities.⁷ Case and rebuttal briefs should be filed using ACCESS.

⁶ See 19 CFR 351.309(d); see also Administrative Protective Order, Service, and Other Procedures in Antidumping and Countervailing Duty Proceedings, 88 FR 67069, 67077 (September 29, 2023) (APO and Final Service Rule).

⁷ See 19 CFR 351.309(c)(2) and (d)(2).

As provided under 19 CFR 351.309(c)(2) and (d)(2), in prior proceedings we have encouraged interested parties to provide an executive summary of their brief that should be limited to five pages total, including footnotes. In this circumvention inquiry, we instead request that interested parties provide at the beginning of their briefs a public, executive summary for each issue raised in their briefs.⁸ Further, we request that interested parties limit their executive summary of each issue to no more than 450 words, not including citations. We intend to use the executive summaries as the basis of the comment summaries included in the issues and decision memorandum that will accompany the final determination of this circumvention inquiry. We request that interested parties include footnotes for relevant citations in the executive summary of each issue. Note that Commerce has amended certain of its requirements pertaining to the service of documents in 19 CFR 351.303(f).⁹

⁸ We use the term “issue” here to describe an argument that Commerce would normally address in a comment of the Issues and Decision Memorandum.

⁹ See Administrative Protective Order, Service, and Other Procedures in Antidumping and Countervailing Duty Proceedings; Final Rule, 88 FR 67069 (September 29, 2023).

Pursuant to 19 CFR 351.310(c), interested parties who wish to request a hearing, limited to issues raised in the case and rebuttal briefs, must submit a written request to the Assistant Secretary for Enforcement and Compliance, U.S. Department of Commerce, within 30 days after the date of publication of this notice in the Federal Register, filed electronically via ACCESS. Requests should contain: (1) the requesting party's name, address, and telephone number; (2) the number of individuals from the requesting party that will attend the hearing; and (3) a list of the issues that the party intends to discuss at the hearing. Oral presentations at the hearing will be limited to issues raised in the briefs. If a request for a hearing is made, parties will be notified of the time and date for the hearing.

Notification to Interested Parties

Commerce is issuing and publishing this determination in accordance with section 781(b) of the Act and 19 CFR 351.226(g)(1).

Dated: June 26, 2024.
Ryan Majerus,
Deputy Assistant Secretary for Policy and Negotiations, performing the non-exclusive functions and duties of the Assistant Secretary for Enforcement and Compliance.

Appendix

Topics Discussed in the Preliminary Decision Memorandum

I. Summary

II. Background

III. Scope of the Order

IV. Merchandise Subject to the Circumvention Inquiry

V. Period of the Circumvention Inquiry

VI. Statutory and Regulatory Framework for the Circumvention Inquiry

VII. Statutory Analysis for the Circumvention Inquiry

VIII. Summary of Statutory Analysis

IX. Recommendation

[FR Doc. 2024-14571 Filed 7-1-24; 8:45 am]

BILLING CODE 3510-DS-P